DEPARTMENT OF COMMERCE

National Oceanic and Atmospheric Administration

50 CFR Part 660

[I.D. 092601A]

Western Pacific Fishery Management Council; Public Meetings

AGENCY: National Marine Fisheries Service (NMFS), National Oceanic and Atmospheric Administration (NOAA), Commerce.

ACTION: Notice of public meetings/public hearings.

SUMMARY: The Western Pacific Fishery Management Council (Council) Advisory Panels will meet on October 22 and 23, 2001; the Standing Committees will meet on October 23, 2001; and the Council will hold its 111th meeting October 23 through 26, 2001, in Honolulu, HI.

At the full Council meeting, public hearings will be held prior to the Council taking final actions on framework regulatory amendments under the Fishery Management Plan for the Pelagic Fisheries of the Western Pacific Region (Pelagics FMP) concerning the protection of sea turtles and under the Fishery Management Plan for the Precious Corals Fisheries of the Western Pacific Region establishing a 250-nm precious coral refuge area in the Northwestern Hawaiian Islands (NWHI). Public hearings will also be conducted on proposals to establish an American Samoa limited entry program, to exempt longline basket gear from seabird mitigation measures governing fishing gear requirements, and to remove the annual landing requirements for permit renewal in the NWHI bottomfish fishery.

DATES: The meetings and the hearings will be held during October 2001. See SUPPLEMENTARY INFORMATION for specific dates, and times for the meetings and the hearings.

ADDRESSES: The meetings and the hearings will be held at the Hawaii Convention Center, 1801 Kalakaua Ave, Honolulu, HI 96815; telephone: 808-943-3500.

FOR FURTHER INFORMATION CONTACT: Kitty M. Simonds, Executive Director; telephone: 808-522-8220.

SUPPLEMENTARY INFORMATION:

Dates and Locations

Advisory Panels

The Commercial, Recreational, Subsistence/Indigenous, and Ecosystem and Habitat sub-panels will meet jointly on Monday, October 22, 2001, from 8:30 a.m. to 12 noon. Sub-panels will meet individually on Monday afternoon, October 22 and Tuesday, October 23, 2001, until 3 p.m. Sub-panels will reconvene jointly from 3:15 p.m. to 5 p.m. to finalize recommendations. Public comment periods will be provided throughout the meetings. The order in which agenda items are addressed may change. The Advisory Panel (AP) will meet as late as necessary to complete scheduled business.

The agenda for the AP meetings will include the items listed below:

1. Welcome and introductions

2. Status of AP recommendations

3. Action items

a. Pelagic framework measure for turtles

b. Pelagic amendment for American Samoa limited entry program

c. Pelagic framework measure for basket gear

d. Precious coral framework measure for NWHI 250 nm Refuge

e. Bottomfish amendment for NWHI management

f. Community demonstration projects

4. Saltonstall-Kennedy Funding

5. NMFS research plans for the western Pacific region

6. Break-out sub-panel sessions discuss issues and develop recommendations

7. Joint panel meeting

a. Jurisdictional Issues

i. American Samoa Treaty/Deed of Cessation

ii. Commonwealth of the Northern Mariana Islands (CNMI) Covenant

iii. Guam Organic Act

iv. Kanaka Maoli (Hawaiian) sovereignty

8. Joint panel session to review and finalize recommendations to the Council

Public Hearings

Public hearings will be held at 11:30 a.m. on Thursday, October 25, 2001, for final action implementing measures of the March 2001 biological opinion (BO) on the western Pacific pelagic fisheries; at 4:30 p.m. on Thursday, October 25, 2001, for initial action on NWHI bottomfish removal of annual landing requirements; and at 10 a.m. on Friday, October 26, 2001, for final action on a precious corals regulatory adjustment to establish a NWHI refuge area.

Committee Meetings

The following Standing Committees of the Council will meet on October 23, 2001. Enforcement/Vessel Monitoring System (VMS) from 8 a.m. to 10 a.m.; Fishery Rights of Indigenous People from 9 a.m. to 10 a.m.; International Fisheries/Pelagics from 10 a.m. to 12 noon; Precious Corals from 1:30 p.m. to 3 p.m.; Crustaceans from 1:30 p.m. to 3 p.m.; Bottomfish from 3 p.m. to 4:30 p.m; Ecosystem and Habitat from 3 p.m. to 4:30 p.m.; and Executive/Budget and Program from 4:30 p.m. to 6 p.m.

In addition, the Council will hear recommendations from its APs, plan teams, scientific and statistical committee, and other ad hoc groups. Public comment periods will be provided throughout the agenda. The order in which agenda items are addressed may change. The Council will meet as late as necessary to complete scheduled business.

The agenda during the full Council meeting will include the items listed here:

1. Introductions

2. Approval of agenda

3. Approval of 110th meeting minutes

4. Island reports

A. American Samoa

B. Guam

C. Hawaii

D. CNMI

5. Federal fishery agency and organization reports

A. Department of Commerce (DOC)

(1) NMFS

(a) Southwest Region, Pacific Islands Area Office

(b) Southwest Fisheries Science Center, La Jolla and Honolulu Laboratories

(2) NOAA General Counsel, Southwest Region

B. Department of the Interior (DOI)/U.S. Fish and Wildlife Service (USFWS)

C. U.S. State Department (DOS)

6. Pelagics

A. Pacific Fishery Management Council Highly Migratory Species Fishery Management Plan

B. Fish and Western Fish Boat Owners Association correspondence

C. 2nd quarter 2001 Hawaii and American Samoa longline reports

D. American Samoa

(1) Longline fishery expansion in 2001 and management needs (limited entry program)

(2) Pilot observer program

E. Guest Speaker: Tim Park—Federated States of Micronesia Observer Program

F. SAFE/Annual Report

(1) Highly migratory species stock assessments

G. Recreational fisheries reporting

H. Status of litigation

I. Sea Turtle conservation and management

(1) Workshop

(2) Research (progress since May 2001)

a. Field studies

b. Population assessments (leatherbacks & other turtle species)

c. Population modeling

(3) FMP regulatory amendment implementing measures in March 2001 BO on western Pacific pelagic fisheries

(4) Endangered Species Act section 6 grants program for turtle recovery

J. Seabird conservation and management

(1) USFWS short-tail albatross handling guidelines

(2) 2nd International Fishers Forum

(3) Underwater setting chute deployment in Hawaii longline fishery

(4) Adjustment of seabird mitigation regulations to account for longline basket gear

J. Supplemental pelagic environmental impact statement (EIS)for squid, seabirds, international management, purse seine tuna treaty

K. Marine Mammal Protection Act List of Fisheries

a. 2001 List of Fisheries

b. NMFS Marine mammal research plan

L. Impacts of closure of Suisan fish auction in Hilo

M. Report on the 2001 Protected Species Workshops

N. International Meetings (14th Standing Committee on Tuna and Billfish, 3rd Recreational Fisheries Symposium)

O. Public hearing

The Council will take final action on a framework regulatory amendment under the pelagic fishery management plan to implement management measures governing the protection of sea turtles. These measures, which are also contained in the preferred alternative of the NMFS Final Environmental Impact Statement (March 30, 2001), are in a March 29, 2001, BO issued by NMFS on the operation of the western Pacific pelagic fisheries managed by the Council. The Council’s action will consider proposed rulemaking for a ban on swordfish-style longline fishing north of the equator, a requirement for all fishing vessels fishing for pelagic management unit species to carry line clippers and wire or bolt cutters used to remove fishing line or hooks from sea turtles, and other turtle mitigation measures promulgated as emergency interim regulations, published in the Federal Register on June 12, 2001, at 66 FR 31561 for the Hawaii-based longline fishery.

7. Enforcement

A. U.S. Coast Guard activities

B. NMFS activities

C. Commonwealth, Territories, and State activities

D. Status of violations

8. VMS

A. NMFS VMS report

B. USCG expanded use of VMS information

C. NWHI Reserve VMS pilot study

9. NMFS Observer Program

10. Monk Seals

A. Status of revised recovery plan, delisting criteria and recovery team

B. Report on NWHI shark activities

(1) Great white shark

(2) Culling

C. Marine Mammal Research Program Quarterly Report

1. Bottomfish fisheries

A. NWHI Framework Action: removal of landing requirements

B. Marine protected area closure effects on calculating spawning potential ratio, catch per unit of effort, etc.

C. Status of Biological Opinion

D. Status of Bottomfish Observer Program and data collection

E. Status of Digital Video Observer Pilot Project

F. Public hearing

The Council will consider an amendment to its Fishery Management Plan for Bottomfish and Seamount Groundfish Fisheries of the Western Pacific Region that would remove the annual landing requirements or permit renewal and prohibitions on the lease and charter of permits from the NWHI Ho’omalu and Mau zone management regimes. The Council expects that these removals will best address the key objectives to maintain opportunities for small scale fisheries, maintain availability of high-quality fresh bottomfish, and balance harvest capacity with harvestable fishery stocks. The basic approach is to structure the permit system so that evidence of participation is used for new entry and the total number of permits are maintained at target levels.

12. Crustaceans Fisheries

A. NMFS tagging research and modeling workshop

B. 1999 Annual Report (SAFE)

C. Public comment

13. Precious Corals

A. Review of Precious Corals framework regulatory adjustment

B. Public hearing on framework regulatory amendment

The Council proposes to restructure the management regime for the exploratory area to be based on current knowledge of the resource and industry practices. This will permit increased landings as well as reduce pressure on the known beds. The proposed measure would remove the 1,000-kg annual quota, and incorporate site-specific restrictions to allow sustainable harvest based on the size of the resource in a given area. The Council is also recommending the establishment of a 250-nm precious coral refuge area in the NWHI. Compliance would be monitored through mandatory video taping of harvesting activities.

14. Ecosystems and Habitat

A. NMFS report on status of Coral Reef Ecosystem Fishery Management Plan

B. State of Hawaii NWHI management plan and Memorandum of Understanding

C. Essential fish habitat (EFH) requirements

D. EFH consultations for Federal actions

E. FWS Tern Island seawall environmental assessment

F. Proposed invasive species mitigation measures (e.g., rats)

G. Council Marine Protected Area policy development

15. Fishery rights of indigenous people

A. Marine conservation plans

B. Community development program: Designation of American Samoa as a fishing community

C. Community demonstration projects program

(1) Council program

(2) Grant application process

D. Island workshops to discuss religious, cultural, and subsistence turtle takes

E. Native observer program for Western Pacific fisheries

16. Program Planning

A. Program planning initiatives

B. NMFS Research Plan for Western Pacific Region

C. Education initiatives

D. Report on the Regulatory Flexibility Act, Magnuson-Stevens Fishery Conservation and Management Act (Magnuson-Stevens Act), and National Environmental Policy Act workshop

E. Status of Congressional legislation

F. Digital video monitoring policy

G. DOI/DOS/DOC Fisheries Policies Working Group

17. Administrative matters

A. Financial reports

B. Administrative reports

C. Upcoming meetings and workshops, including the 2002 Council meetings

18. Election of officers

Other Business

Although non-emergency issues not contained in this agenda may come before the Council for discussion, those issues may not be the subject of formal Council action during this meeting. Council action will be restricted to those issues specifically listed in this document and to any issue arising after publication of this document that requires emergency action under section 305(c) of the Magnuson-Stevens Act, provided that the public has been notified of the Council’s intent to take final action to address the emergency.

Special Accommodations

This meeting is physically accessible to people with disabilities. Requests for sign language interpretation or other auxiliary aids should be directed to Kitty M. Simonds, 808-522-8220 (voice) or 808-522-8226 (fax), at least 5 days prior to the meeting date.

Authority: 16 U.S.C. 1801 et seq.

Dated: October 3, 2001.
Bruce C. Morehead,
Acting Director, Office of Sustainable Fisheries, National Marine Fisheries Service.

[FR Doc. 01-25299 Filed 10-5-01; 8:45 am]

BILLING CODE 3510-22-S